DEPARTMENT OF HEALTH AND HUMAN SERVICES

Centers for Disease Control and Prevention

Board of Scientific Counselors, National Center for Health Statistics (BSC, NCHS); Amended Notice of Meeting

Notice is hereby given of a change in the meeting of the Board of Scientific Counselors, National Center for Health Statistics (BSC, NCHS); September 17, 2020, from 9:30 a.m. to 3:00 p.m., EDT, and September 18, 2020, from 9:00 a.m. to 11:30 a.m., EDT, in the original FRN. The teleconference access is

https://www.cdc.gov/nchs/about/bsc/bsc_meetings.htm which was published in the Federal Register on July 31, 2020, Volume 85, Number 148, page 46121.

The meeting is being amended to change the meeting time and should read as follows:

DATES: The meeting will be held on September 17, 2020, from 11:00 a.m. to 4:30 p.m., EDT and September 18, 2020, from 11:00 a.m. to 2:15 p.m., EDT.

The meeting is open to the public.

FOR FURTHER INFORMATION CONTACT: Sayeedha Uddin, M.D., M.P.H., Executive Secretary, NCHS/CDC, Board of Scientific Counselors, 3311 Toledo Road, Room 2627, Hyattsville, Maryland 20782, telephone (301) 458-4303, email SUddin@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-18160 Filed 8-18-20; 8:45 am]

BILLING CODE 4163-18-P